DEPARTMENT OF COMMERCE

Foreign-Trade Zones Board

(Docket 21-2008)

Foreign-Trade Zone 87 Lake Charles, Louisiana, Application for Subzone, Haliburton Energy Services, Inc.(Barite Grinding and Milling) Westlake, Louisiana

An application has been submitted to the Foreign-Trade Zones Board (the Board) by the Lake Charles Harbor & Terminal District, grantee of Foreign-Trade Zone (FTZ) 87, requesting special-purpose subzone status for the barite grinding and milling facility of Haliburton Energy Services, Inc. (HESI) located in Westlake, Louisiana. The application was submitted pursuant to the provisions of the Foreign-Trade Zones Act, as amended (19U.S.C. 81a-81u), and the regulations of the Board (15 CFR Part 400). It was formally filed on April 1, 2008.

The HESI facility (17 acres, 48 employees) is located at 3500 Bayou D'Inde Road, in Westlake. The facility is used for the manufacturing, warehousing and distribution activities related to the processing of raw barite (HTSUS 2511.10.50) into ground barite (HTSUS 2511.10.10) (up to 540,000 tons annually). Ground barite is used in the production of drilling fluids (drilling mud) and various specialty chemicals for use by the oil and natural gas exploration industry. HESI sources the majority of its raw barite from abroad. The duty rate on the imported raw barite is $1.25 per metric ton.

This application requests authority for HESI to conduct the activity under FTZ procedures, which would exempt the company from customs duty payments on the imported barite used in export production. Less than one percent of production is exported. On domestic sales, the company could choose the duty rate (duty-free) for the imported raw barite used in manufacturing that applies to the finished product. The majority of FTZ-related savings will come from the elimination of the duty on the finished product. HESI will also realize additional savings on the elimination of duties on materials that become scrap/waste during manufacturing. The application indicates that the FTZ-related savings would improve the plant's international competitiveness.

In accordance with the Board's regulations, Christopher Kemp of the FTZ staff is designated examiner to investigate the application and report to the Board.

Public comment is invited from interested parties. Submissions (original and 3 copies) shall be adressed to the Board's Executive Secretary at the address listed below. The closing period for their receipt is June 16, 2008. Rebuttal comments in response to material submitted during the foregoing period may be submitted during the subsequent 15-day period (to June 30, 2008.

A copy of the application and accompanying exhibits will be available at each of the following addresses: Lake Charles Harbor and Terminal District, 150 Marine Street, Lake Charles, Louisiana 70601; and, Office of the Executive Secretary, Foreign-Trade Zones Board, Room 2111, U.S. Department of Commerce, 1401 Constitution Ave, NW, Washington, D.C. 20230. For further information contact Christopher Kemp at christopher_kemp@ita.doc.gov or (202) 482-0862.

Dated: April 1, 2008.
Andrew McGilvray,
Executive Secretary.

[FR Doc. E8-8036 Filed 4-14-08; 8:45 am]

BILLING CODE 3510-DS-S